COMMITTEE FOR PURCHASE FROM PEOPLE WHO ARE BLIND OR SEVERELY DISABLED

Notice; Adoption of Operational Name for Agency

AGENCY: Committee for Purchase From People Who Are Blind or Severely Disabled.

ACTION: Final Notice; adoption of operational name for agency.

SUMMARY: The Committee for Purchase From People Who Are Blind or Severely Disabled has deliberated and voted to adopt U.S. AbilityOne Commission as its operational name. The operational name change will not affect the statutory name of the agency; however, the name change will allow the Committee to take advantage of the strong and unified AbilityOne® name. The Committee has decided to adopt an operational name in order to ensure greater recognition and transparency as a federal agency responsible for implementing and administering a federal statute.

DATES: Effective Date: October 1, 2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

I. Summary of Notice

The Javits-Wagner-O'Day (JWOD) Act (Pub. L. 92-28), established an agency to be known as the Committee for Purchase From People Who Are Blind or Severely Disabled (Committee). The purpose of the JWOD Act is to generate employment and training opportunities for people who are blind or have other severe disabilities in the manufacture and delivery of products and services to the federal government. The law requires federal agencies to procure certain products and services that are produced and provided by community-based nonprofit agencies that are dedicated to training and employing persons who are blind or have other severe disabilities.

The Committee is an independent federal agency and consists of fifteen members appointed by the President (11 from specific federal agencies and four private citizens). The Committee works closely and collaboratively with two designated (non-governmental) central nonprofit agencies (CNAs): National Industries for the Blind (NIB) and NISH (creating employment opportunities for people with significant disabilities) to operate the program. In addition, the JWOD Act authorizes the Committee to make rules and regulations necessary to carry out the Act.

In 1938, Congress passed the Wagner-O'Day Act so people who are blind could manufacture mops and brooms to sell the federal government. In 1971, the JWOD Act expanded the Wagner-O'Day Act to include people who had severe disabilities and to authorize the program to provide services to the government. For decades, the program operated as the “NIB/NISH Program” and/or the “JWOD Program.” In 2006, the program changed its name to AbilityOne® in order to build a descriptive and powerful brand identity, to better convey its employment mission, and to link participating nonprofit agencies.

The name change to AbilityOne has been a tremendous success and has resulted in a stronger, more unified program. However, there still exists confusion and misunderstanding among federal agencies and non-federal entities, regarding the status and purpose of the Committee. In addition, the name (Committee for Purchase From People Who Are Blind or Severely Disabled) does not independently identify it as a federal agency, and the term “Committee” is commonly associated as being in an advisory capacity.

Consequently, in order to enhance the ease of identification of the Committee as a federal agency responsible for administering the JWOD Act, the Committee has voted to adopt U.S. AbilityOne Commission as an operational name. In order to ensure that all federal agencies and non-governmental entities that are familiar with the Committee name are able to recognize and transfer their support to the new operational name, the U.S. AbilityOne Commission will continue to use the statutory name in appropriate circumstances. The dual use will enable the Committee to use existing business materials that contain the statutory name and to begin using the new name as materials and supplies are refreshed in the normal supply cycle.

II. Administrative Procedure Act

Because this notice merely implements an operational name change of a government agency, it relates only to agency organization, procedure or practice, and, accordingly, requirements for prior notice and public comment do not apply. 5 U.S.C. 553(b)(3)(A). The Committee for good cause finds, pursuant to 5 U.S.C. 553(b)(3)(B), that notice and public comment thereon are unnecessary. In addition, and for the same reasons, the Committee finds, for good cause, pursuant to 5 U.S.C. 553(d)(3), that this notice should take effect immediately.

III. Paperwork Reduction Act

This final notice does not include a collection of information as defined in 44 U.S.C. 3502(3) of the Paperwork Reduction Act of 1995. Required changes in the references to the agency name are not substantive or material modifications to the existing collections of information. The applicability date for this change should further limit any associated burden. Accordingly, the modifications to this collection of information have not been submitted to OMB for review.

IV. Regulatory Flexibility Act

Because this notice is being promulgated without a proposal and an opportunity for public comments, the Regulatory Flexibility Act (5 U.S.C. 601 et seq.) does not apply. In any event, the technical amendments made by this notice will not have a significant impact on a substantial number of small entities.

V. Congressional Review Act

This notice is a notice of agency organization, procedure or practice that does not substantially affect the rights or obligations of non-agency parties. It is therefore not subject to the Congressional Review Act pursuant to 5 U.S.C. 801 and 804(1).

Barry S. Lineback,
Director, Business Operations.

[FR Doc. 2011-25270 Filed 9-29-11; 8:45 am]

BILLING CODE 6353-01-P